DEPARTMENT OF ENERGY

Federal Energy Regulatory Commission

[Docket No. AD16-16-000]

Implementation Issues Under the Public Utility Regulatory Policies Act of 1978; Supplemental Notice of Technical Conference

As announced in the Notice of Technical Conference issued in this proceeding on February 9, 2016, the Federal Energy Regulatory Commission (Commission) will hold a technical conference on June 29, 2016, from 9:00 a.m. to approximately 4:00 p.m. on implementation issues under the Public Utility Regulatory Policies Act of 1978 (PURPA).¹ The conference will be held in the Commission Meeting Room at the Federal Energy Regulatory Commission, 888 First Street NE., Washington, DC 20426.

¹ 16 U.S.C. 824a-3 (2012).

The purpose of the technical conference is to focus on issues associated with the Commission's implementation of PURPA. As noted in the preliminary agenda previously issued in this proceeding,² the conference will focus on two issues: The mandatory purchase obligation under PURPA and the determination of avoided costs for those purchases.

² Supplemental Notice Concerning Technical Conference, 81 FR 12,726 (2016).

A final Agenda for the technical conference, including speakers, is attached.

Those who plan to attend the technical conference are strongly encouraged to complete the registration form located at: https://www.ferc.gov/whats-new/registration/06-29-16-form.asp. There is no registration deadline or fee to attend the conference.

Information on this event will be posted on the Calendar of Events on the Commission's Web site, http://www.ferc.gov, prior to the event. The conference will be transcribed. Transcripts will be available for a fee from Ace Reporting Company (202-347-3700). A free webcast of this event is also available through www.ferc.gov. Anyone with Internet access who desires to view this event can do so by navigating to http://www.ferc.gov Calendar of Events and locating this event in the Calendar. The event will contain a link to the webcast. The Capitol Connection provides technical support for webcasts and offers the option of listening to the meeting via phone-bridge for a fee. If you have any questions, visit www.CapitolConnection.org or call 703-993-3100.

Commission conferences are accessible under section 508 of the Rehabilitation Act of 1973. For accessibility accommodations, please send an email to accessibility@ferc.gov or call toll free (866) 208-3372 (voice) or (202) 208-1659 (TTY), or send a FAX to (202) 208-2106 with the required accommodations.

While this conference is not for the purpose of discussing specific cases, we note that the discussions at the conference may address matters at issue in the following Commission proceedings that are either pending or within their rehearing period:

| Docket Nos.
Occidental Chemical Corporation | EL13-41-001
Tri-State Generation and Transmission Association, Inc. | EL16-39-000
Bright Light Capital, LLC | EL16-43-000, QF16-259-001
Nebraska Public Power District | QM16-1-000
Ameren Illinois Company and Union Electric Company | QM16-2-000
Gregory and Beverly Swecker v. Midland Power Cooperative | EL14-9-000, QF11-424-002
Gregory and Beverly Swecker v. Midland Power Cooperative and Central Iowa Power Cooperative | EL14-18-000
Interconnect Solar Development LLC | EL16-55-000, QF11-204-002, QF11-205-002
SunE B9 Holdings, LLC | EL16-58-000, QF15-793-001, QF15-794-001, QF15-795-001
Golden Spread Electric Cooperative, Inc. | QM16-3-000
Golden Spread Electric Cooperative, Inc. | EL16-62-000
Oklahoma Municipal Power Authority | EL16-67-000
Saguaro Power Company | EL16-78-000, QF90-203-007
North Hartland, LLC | EL16-74-000, QF99-56-004
Graphic Packaging International, Inc. | ER16-1051-000, ER16-1051-001
Hoosier Energy Rural Electric Cooperative Inc. | QM16-4-000
Windham Solar LLC and Allco Finance Limited | EL16-69-000, QF16-362-001, QF16-363-001, QF16-364-001, QF16-365-001, QF16-366-001, QF16-367-001, QF16-368-001, QF16-369-001, QF16-370-001, QF16-371-001, QF16-372-001, QF16-373-001, QF16-374-001, QF16-375-001, QF16-376-001, QF16-377-001, QF16-378-001, QF16-379-001, QF16-380-001, QF16-381-001, QF16-382-001, QF16-383-001, QF16-384-001, QF16-385-001, QF16-386-001, QF16-387-001

For more information about the technical conference, please contact:

Technical Information: Adam Alvarez, Office of Energy Market Regulation, Federal Energy Regulatory Commission, 888 First Street NE., Washington, DC 20426, (202) 502-6734, Adam.Alvarez@ferc.gov.

Legal Information: Loni Silva, Office of the General Counsel, Federal Energy Regulatory Commission, 888 First Street NE., Washington, DC 20426, (202) 502-6233, Loni.Silva@ferc.gov.

Logistical Information: Sarah McKinley, Office of External Affairs, Federal Energy Regulatory Commission, 888 First Street NE., Washington, DC 20426, (202) 502-8368, Sarah.Mckinley@ferc.gov.

Dated: June 27, 2016.
Kimberly D. Bose,
Secretary.

[FR Doc. 2016-15792 Filed 7-1-16; 8:45 am]

BILLING CODE 6717-01-P